JUDICIAL CONFERENCE OF THE UNITED STATES

Meeting of the Judicial Conference Advisory Committee on Rules of Bankruptcy Procedure

AGENCY: Judicial Conference of the United States, Advisory Committee on Rules of Bankruptcy Procedure.

ACTION: Notice of open meeting.

SUMMARY: The Advisory Committee on Rules of Bankruptcy Procedure will hold a one-day meeting. The meeting will be open to public observation but not participation. An agenda and supporting materials will be posted at least 7 days in advance of the meeting at: http://www.uscourts.gov/rules-policies/records-and-archives-rules-committees/agenda-books.

DATES: March 31, 2016 from 9:00 a.m. to 5:00 p.m.

ADDRESSES: Hotel Monaco Denver, 1717 Champa Street, Paris B&C Meeting Rooms, Denver, CO 80202.

FOR FURTHER INFORMATION CONTACT: Rebecca A. Womeldorf, Rules Committee Secretary, Rules Committee Support Office, Administrative Office of the United States Courts, Washington, DC 20544, telephone (202) 502-1820.

Dated: February 4, 2016.
Rebecca A. Womeldorf,
Rules Committee Secretary.

[FR Doc. 2016-02692 Filed 2-9-16; 8:45 am]

BILLING CODE 2210-55-P